DEPARTMENT OF HEALTH AND HUMAN SERVICES

National Institutes of Health

Center for Scientific Review; Amended Notice of Meeting

Notice is hereby given of a change in the meeting of the Center for Scientific Review Special Emphasis Panel RFA T1 Translational Aging Research UG3, July 09, 2025, 11:00 a.m. to July 09, 2025, 07:00 p.m., National Institutes of Health, Rockledge II, 6701 Rockledge Drive, Bethesda, MD 20892 which was published in the Federal Register on June 13, 2025, 90 FR 25060, Doc 2025-10771.

This meeting is being amended to change the start time from 11:00 a.m. to 12:30 p.m. on 07/09/2025. The meeting is closed to the public.

Dated: June 16, 2025.
Sterlyn H. Gibson,
Program Specialist, Office of Federal Advisory Committee Policy.

[FR Doc. 2025-11254 Filed 6-17-25; 8:45 am]

BILLING CODE 4140-01-P